DEPARTMENT OF ENERGY

Federal Energy Regulatory Commission

[Docket No. RP10-940-000]

ANR Pipeline Company; Notice of Technical Conference

August 11, 2010.

By order dated July 30, 2010 ¹ the Federal Energy Regulatory Commission ordered a technical conference in the captioned proceeding. The conference will be held on Wednesday, September 15, 2010 at the Commission's headquarters at 888 First Street, NE., Washington, DC 20426, beginning at 9 in a room to be identified. The conference will address the matters of the transportation charges for the handling and transporting of Associated Liquids discussed in the July 30, 2010 order.

¹ ANR Pipeline Company, 132 FERC ¶ 61,090 (2010).

FERC conferences are accessible under section 508 of the rehabilitation Act of 1973. For accessibility accommodations please send an e-mail to accessibility@ferc.gov or call toll free 1-866-208-3372 (voice) or 202-208-1659 (TTY); or send a FAC to 202-208-2106 with the required accommodations. For further information contact John M. Robinson at 202-502-6808 or Frank Sparber at 202-502-8335.

Kimberly D. Bose,
Secretary.

[FR Doc. 2010-20376 Filed 8-17-10; 8:45 am]

BILLING CODE 6717-01-P